DEPARTMENT OF TRANSPORTATION

Federal Aviation Administration

Ninth Meeting, RTCA Special Committee 204: 406 MHz Emergency Locator Transmitters

AGENCY: Federal Aviation Administration (FAA), DOT.

ACTION: Notice of RTCA Special Committee 204 meeting.

SUMMARY: The FAA is issuing this notice to advise the public of a meeting of RTCA Special Committee 204: 406 MHz Emergency Locator Transmitters.

DATES: The meeting will be held on May 16-17, 2007, from 8:30 a.m. to 4:30 p.m.

ADDRESSES: The meeting will be held at RTCA, Inc., Colson Board Room, 1828 L Street, NW., Suite 805, Washington, DC, 20036-5133.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 meeting. The agenda will include:

• May 16-17:

• Opening Session (Welcome, Introductory and Administrative Remarks, Agenda Overview).

• Approval of Summary for the Eighth meeting held on 16-17 January 2007, RTCA Paper No. 029-07/SC 204-021.

• EUROCAE ELT Status.

• Committee Presentations, Discussion, Recommendations.

• Revisions/Updates to DO-204—Minimum Operational Performance Standards for 406 MHz Emergency Locator Transmitters (ELT).

• Any New Items Discussions.

• Open Actions Items.

• Closing Session (Other Business, Assignment/Review of Future Work, Establish Agenda, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 3, 2007.
Francisco Estrada C.,
RTCA Advisory Committee.

[FR Doc. 07-1805 Filed 4-11-07; 8:45 am]

BILLING CODE 4910-13-M